DEPARTMENT OF THE INTERIOR

Bureau of Land Management

[PO #4820000251; Order #02412-014-004-047181.0]

Filing of Surveys: Idaho

AGENCY: Bureau of Land Management, Interior.

ACTION: Notice of official filing.

SUMMARY: The plats and/or field notes of the following described surveys are scheduled to be officially filed in the Bureau of Land Management (BLM), Idaho State Office, Boise, Idaho, 30 days from the date of this publication. The surveys were conducted to meet the administrative needs of various Federal agencies.

DATES: If you wish to protest one or more of the surveys identified in this notice, you must file a written notice of protest with the BLM Chief Cadastral Surveyor for Idaho by June 13, 2025.

ADDRESSES: Submit written protests to the BLM Idaho State Office, 1387 S Vinnell Way, Boise, ID 83709. You may obtain a copy of the survey record from the Public Room at this office upon required payment.

FOR FURTHER INFORMATION CONTACT: Michael L. Hart, Branch of Cadastral Survey, telephone: (208) 373-3981; email: mlhart@blm.gov. Individuals in the United States who are deaf, deafblind, hard of hearing, or have a speech disability may dial 7-1-1 (TTY, TDD, or TeleBraille) to access telecommunications relay services. Individuals outside the United States should use the relay services offered within their country to make international calls to the point-of-contact in the United States.

SUPPLEMENTARY INFORMATION:

Boise Meridian, Idaho

The dependent resurvey of portions of the south boundary and subdivisional lines, and the subdivision of sections 21, 28, and 32, Township 3 North, Range 18 East, accepted January 27, 2025, under Group No. 1310.

The dependent resurvey of portions of the north boundary and subdivisional lines, and the subdivision of section 4, Township 2 South, Range 14 East, accepted January 27, 2025, under Group No. 1479.

The dependent resurvey of a portion of the subdivisional lines, and the subdivision of section 16 and the survey of the 2016 meanders of the summer pool level of Coeur d'Alene Lake in section 16, Township 49 North, Range 4 West, accepted December 11, 2024, under Group No. 1458.

The dependent resurvey of portions of the south boundary and subdivisional lines, and the subdivision of section 32, Township 5 South, Range 16 East, accepted February 12, 2025, under Group No. 1480.

The remonumentation of the center ¼ section corner of section 8, Township 45 North, Range 5 West, approved February 18, 2025, under Group No. 1500.

The dependent resurvey of portions of the north boundary and subdivisional lines, and the subdivision of section 3 and the metes-and-bounds survey of the as-built centerline of Pahsimeroi Road in section 3, Township 13 North, Range 23 East, accepted February 20, 2025, under Group No. 1521.

The dependent resurvey of a portion of the subdivisional lines, and the subdivision of section 20, and the metes-and-bounds survey of the as-built centerline of Pahsimeroi Valley Road in section 20, Township 14 North, Range 22 East, accepted February 20, 2025, under Group No. 1522.

The dependent resurvey of portions of the east and north boundaries and subdivisional lines, and the subdivision of sections 1, 12, and 13, Township 4 South, Range 18 East, accepted February 26, 2025, under Group No. 1483.

The dependent resurvey of a portion of the subdivisional lines, and the subdivision of sections 29 and 32, Township 3 South, Range 19 East, accepted March 3, 2025, under Group No. 1488.

The corrective resurvey of certain lots in section 21; the dependent resurvey of portions of the subdivision of section lines of section 21; and certain metes-and-bounds surveys in section 21, Township 50 North, Range 4 West, accepted March 5, 2025, under Group No. 1392.

If you wish to protest one or more of the surveys identified above, you must file a written notice of protest with the BLM Chief Cadastral Surveyor for Idaho within 30 calendar days from the date of this publication at the address listed in the ADDRESSES section of this notice. The protest must identify the survey(s) that the person or party wishes to protest and contain all reasons and evidence in support of the protest. A protest is considered filed on the date it is received by the Chief Cadastral Surveyor for Idaho during regular business hours. If received after regular business hours, a protest will be considered filed the next business day.

Before including your address, phone number, email address, or other personal identifying information in a protest, you should be aware that the documents you submit, including your personal identifying information, may be made publicly available in their entirety at any time. While you can ask us to withhold your personal identifying information from public review, we cannot guarantee that we will be able to do so.

(Authority: 43 U.S.C. chapter 3)

Michael Hart,
Chief Cadastral Surveyor for Idaho.

[FR Doc. 2025-08422 Filed 5-13-25; 8:45 am]

BILLING CODE 4331-19-P